DEPARTMENT OF DEFENSE

Office of the Secretary

32 CFR Part 45

[Docket ID: DOD-2021-OS-0047]

RIN 0790-AL22

Medical Malpractice Claims by Members of the Uniformed Services; Correction

AGENCY: Department of Defense (DoD) Office of General Counsel, DoD.

ACTION: Interim final rule; correction.

SUMMARY: The Department of Defense is correcting an interim final rule that appeared in the Federal Register on June 17, 2021. The interim final rule implements requirements of the National Defense Authorization Act (NDAA) for Fiscal Year 2020 permitting members of the uniformed services or their authorized representatives to file claims for personal injury or death caused by a Department of Defense (DoD) health care providers in certain military medical treatment facilities. Because Federal courts do not have jurisdiction to consider these claims, DoD is issued this rule to provide uniform standards and procedures for considering and processing these actions.

DATES: This correction is effective on July 19, 2021.

FOR FURTHER INFORMATION CONTACT: Patricia Toppings, 571-372-0485.

SUPPLEMENTARY INFORMATION: In FR Doc. 2021-12815, appearing at 86 FR 32194-32215 in the Federal Register on Thursday, June 17, 2021, the following correction is made:

§ 45.11 [Corrected]

1. On page 32213, in the third column, line 47 from the top, in § 45.11, the second paragraph (g)(5) and paragraphs (g)(6) and (7) that follow are redesignated as (g)(6) through (8).

Dated: June 22, 2021.
Patricia L. Toppings,
OSD Federal Register Liaison Officer, Department of Defense.

[FR Doc. 2021-13632 Filed 6-25-21; 8:45 am]

BILLING CODE 5001-06-P